DEPARTMENT OF HOMELAND SECURITY

Coast Guard

33 CFR Part 165

[Docket No. USCG-2025-0856]

Safety Zones; Annual Events Requiring Safety Zones in the Captain of the Port Lake Michigan Zone—Corn Festival Fireworks

AGENCY: Coast Guard, DHS.

ACTION: Notification of enforcement of regulation.

SUMMARY: The Coast Guard will enforce a safety zone for the Corn Festival Fireworks on September 27, 2025, to provide for the safety of life on navigable waterways during this fireworks display. Our regulation for marine events within the Great Lakes Coast Guard District identified the safety zone for this event in Morris, IL. During the enforcement period, entry into, transiting, or exiting the safety zone is prohibited unless authorized by the Captain of the Port (COTP) Lake Michigan or a designated on-scene representative.

DATES: The regulations in 33 CFR 165.929 will be enforced for the Corn Festival Fireworks regulated area listed in Event 19 in Table 1 to § 165.929 from 8:30 p.m. until 9:15 p.m. on September 27, 2025.

FOR FURTHER INFORMATION CONTACT: If you have questions about this notification of enforcement, call or email Lieutenant Kyle Goetz, Marine Safety Unit Chicago, U.S. Coast Guard; 630-986-2155, D09-SMB-MSUChicago-WWM@uscg.mil.

SUPPLEMENTARY INFORMATION: The Coast Guard will enforce a safety zone regulation in 33 CFR 165.929 for the Corn Festival Fireworks in Event 19 in Table 1 to § 165.929 from 8:30 p.m. until 9:15 p.m. on Saturday September 27, 2025. The regulation for recurring marine events within the State of Illinois in Event 19 in Table 1 to § 165.929 specifies the location of the safety zone for this event.

During the enforcement period vessels must obtain permission from the COTP Lake Michigan or his or her designated representative to enter, move within, or exit a safety zone. Vessels and persons granted permission to enter the safety zone must obey all lawful orders or directions of the COTP Lake Michigan or his or her designated representative. Upon being hailed by the U.S. Coast Guard by siren, radio, flashing light or other means, the operator of a vessel must proceed as directed.

In addition to this notification of enforcement in the Federal Register, the Coast Guard will provide the maritime community with notification of this enforcement period via Broadcast Notice to Mariners. The COTP Lake Michigan may be reached by contacting the Coast Guard Sector Lake Michigan Command Center at (833) 900-2247. An on-scene designated representative may be reached via VHF-FM Channel 16.

Dated: September 19, 2025.
Rhianna N. Macon,
Captain, U.S. Coast Guard, Captain of the Port, Lake Michigan.

[FR Doc. 2025-18481 Filed 9-23-25; 8:45 am]

BILLING CODE 9110-04-P